UNITED STATES INSTITUTE OF PEACE

Sunshine Act; Meeting

AGENCY: United States Institute of Peace.

Date/Time: Thursday, March 20, 2003, 9 a.m.-5 p.m.

Location: 1200 17th Street, NW., Suite 200, Washington, DC 20036.

Status: Open Session—Portions may be closed pursuant to subsection (c) of section 552(b) of Title 5, United States Code, as provided in subsection 1706(h)(3) of the United States Institute of Peace Act, Pub. L. 98-525.

Agenda: March 2003 Board Meeting; Approval of Minutes of the One Hundred Eighth (January 30, 2003) of the Board of Directors; Chairman's Report; President's Report; Committee Reports; Consideration of fellowship applications and consideration of list of recommended Grants; Strategic Planning; Other General Issues.

Contact: Dr. Sheryl Brown, Director, Office of Communications, Telephone: (202) 457-1700.

Dated: March 13, 2003.
Harriet Hentges,
Executive Vice President, United States Institute of Peace.

[FR Doc. 03-6780 Filed 3-17-03; 5:15 pm]

BILLING CODE 6820-AR-M